DEPARTMENT OF AGRICULTURE

Submission for OMB Review; Comment Request

December 15, 2021.

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 19, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Request for Geospatial Products and Services.

OMB Control Number: 0560-0176.

Summary of Collection: The information collection is needed to enable the Department of Agriculture to effectively administrate the Geospatial and Aerial Photography Programs. The Geospatial Enterprise Operation under the Farm Production and Conservation-Business Center (FPAC-BC) (formerly Farm Service Agency (FSA)) has the responsibility for conducting and coordinating the aerial imagery, remote sensing programs, and the aerial imagery flying contract programs. The digital and film imagery secured by FPAC-BC is public domain and reproductions are available at cost to any customer with a need. All receipts from the sale of aerial photography products and services are retained by the operation. The FPAC-ISD-441—Request for Geospatial Products and Services is the form supplies to the customers for placing an order for the geospatial and aerial imagery products and services. The operation also collects information using the three FPAC-ISD-441B, Customer Digital Print Form, and FPAC-ISD-441C Service Quality Survey and FPAC-ISD-441D, One-time Credit Card Payment Authorization (new).

Need and Use of the Information: FPAC-BC will collect the name, address, contact name, telephone, fax, email, customer code, agency code, purchase order number, credit card number/exp. date and amount remitted/purchase order amount. Customers have the option of placing orders by mail, fax, telephone, and walk-in. Furnishing this information requires the customer to research and prepare their request before submitting it to the operation. Information collected is used to process fiscal obligations, communicate with the customer, process the request, and email or ship the requested products.

Description of Respondents: Farms; Individuals or household; Business or other for-profit; Federal Government; State, Local or Tribal Government.

Number of Respondents: 2.477.

Frequency of Responses: Recordkeeping; Reporting; Annually; Other (when ordering).

Total Burden Hours: 542.

Ruth Brown,
Departmental Information Collection Clearance Officer.

[FR Doc. 2021-27458 Filed 12-17-21; 8:45 am]

BILLING CODE 3410-05-P